DEPARTMENT OF TRANSPORTATION

Federal Railroad Administration

[Docket Number FRA-2022-0057]

Petition for Waiver of Compliance

Under part 211 of title 49 Code of Federal Regulations (CFR), this document provides the public notice that by letter dated May 17, 2022, Symans Enterprises (Symans) petitioned the Federal Railroad Administration (FRA) for a waiver of compliance from certain provisions of the Federal railroad safety regulations contained at 49 CFR 230.17, One thousand four hundred seventy-two (1472) service day inspection. FRA assigned the petition Docket Number FRA-2022-0057.

Specifically, Symans requests relief for steam locomotive VC 6, which is used in public tourist excursions. Regarding the locomotive's 1472 service day inspection, Symans requests to extend the period in which the inspection is due from July 7, 2022, to December 31, 2023. Symans states that the annual inspection of VC 6 was completed in October 2021, and the extension would allow Symans to recover from revenue losses caused by the COVID-19 pandemic. In support of its request, Symans states that the locomotive has been stored inside and has operated without incident.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by September 2, 2022 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
Carolyn Hayward-Williams,
Director, Office of Railroad Systems and Technology.

[FR Doc. 2022-15330 Filed 7-18-22; 8:45 am]

BILLING CODE 4910-06-P